DEPARTMENT OF EDUCATION

[Docket ID ED-2023-FSA-0133]

Privacy Act of 1974; System of Records

AGENCY: Federal Student Aid, Department of Education.

ACTION: Notice of a modified system of records.

SUMMARY: In accordance with the Privacy Act of 1974, as amended (Privacy Act), the U.S. Department of Education (Department) publishes this notice of a modified system of records titled “Enterprise Data Management and Analytics Platform Services (EDMAPS)” (18-11-22). The EDMAPS system is a data analytics platform that ingests data from multiple Federal Student Aid (FSA) systems of records to perform big-data analytics on FSA data in one common location, produce reports and statistical models, and serve as a centralized repository of information about FSA customers across the full student aid life cycle.

DATES: Submit your comments on this modified system of records notice on or before August 28, 2023. This modified system of records notice will become applicable upon publication in the Federal Register on July 28, 2023, unless it needs to be changed as a result of public comment. The Department will publish any changes to the modified system of records notice resulting from public comment.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “FAQ” tab.

Privacy Note: The Department's policy is to make comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Barry Goldstein, Chief Data Officer, FSA, U.S. Department of Education, UCP, Room 64E1, 830 First Street NE, Washington, DC 20202-5454. Telephone: (202) 377-4563 or email: Barry.Goldstein@ed.gov. If you use a telecommunications device for the deaf (TDD) or a text telephone (TTY), you may call the Federal Relay Service (FRS), toll free, at 1-800-877-8339.

SUPPLEMENTARY INFORMATION: In accordance with the Privacy Act, the Department proposes to modify the system of records notice entitled, “Enterprise Data Management and Analytics Platform Services (EDMAPS)” (18-11-22), which was published in full in the Federal Register on September 13, 2022 (87 FR 56038).

The Department is modifying this system of records notice by making a global change to delete and replace “borrower” and “student” with “aid recipient,” “aid applicant and aid recipient,” and “aid applicant or aid recipient,” as applicable, to be more consistent with changes in other Department system of record notices.

The Department is modifying the section entitled “SYSTEM LOCATION” to update the description of the Amazon Web Services (AWS) location from a “computer” to “hosting” center to better align with industry terminology.

The Department is modifying the section entitled “AUTHORITY FOR MAINTENANCE OF THE SYSTEM” as follows:

(1) The Department is including as authority for the system all of the FAFSA Simplification Act (title VII, division FF of the Consolidated Appropriations Act, 2021 (Pub. L. 116-260)), rather than only subsections 701(b) and 702(m) of the FAFSA Simplification Act, and the FAFSA Simplification Act Technical Corrections Act (division R of the Consolidated Appropriations Act, 2022 (Pub. L. 117-103)) to ensure EDMAPS contains complete data to improve data analytics and reporting and to maintain Master Data Management records;

(2) The Department is modifying the specific authority for the system of records notice entitled “Aid Awareness and Aid Processing System” (18-11-21) to delete and replace the reference to “users of the Federal Student Aid Application File system” in the collection of Social Security Numbers (SSN) with “The collection of SSNs of individuals, and parents of dependent students, who apply for or receive Federal student financial assistance under programs authorized by title IV of the HEA is also authorized by 31 U.S.C. 7701 and Executive Order 9397, as amended by Executive Order 13478 (November 18, 2008); and

(3) The Department is updating the authority for National Student Loan Data System (NSLDS) (18-11-06), Common Services for Borrowers (CSB) (18-11-16) and the Aid Awareness and Application Processing (AAAP) (18-11-21) to include the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency).

The Department is modifying the section entitled “PURPOSE(S) OF THE SYSTEM” to add new category (22) to maintain the consent/affirmative approval on aid applicants and recipients to the IRS for the IRS to disclose FTI under subsection 494(a) of the HEA (20 U.S.C. 1098h(a)) and section 6103(l)(13)(A) and (C) of the IRC to the Department as part of a matching program to determine their determine their eligibility under title IV of the HEA and to permit the Department to redisclose FTI of individuals pursuant to section 6103(l)(13)(D)(iv) of the IRC and the revocation of such consent/affirmative approval for IDR.

The Department is modifying the section entitled “CATEGORIES OF INDIVIDUALS COVERED BY THE SYSTEM” as follows:

(1) Category (1) is updated to include third-party preparers, who assist aid applicants and recipients with the completion of Free Applications for Federal Student Aid (FAFSAs®);

(2) Category (3) is updated to include incarcerated aid recipients, who are recipients of Federal Pell Grants, and to include recipients of Federal Supplemental Educational Opportunity Grants (FSEOGs) and Federal Work-Study (FWS) Program earnings that are used in the calculation of the Student Aid Index (SAI) and sent to EDMAPS for analytics and reporting purposes;

(3) Category (9) is updated to include spouses of married aid applicants and recipients under programs authorized under title IV of the HEA, third-party preparers, and all other individuals who apply for an FSA user ID and password to better explain the individuals already covered by the system;

(4) New category (11) is added to include individuals who are, or once were, officials at postsecondary institutions, such as college presidents, college chief financial officers, and college financial aid directors, and who are mentioned in records of their institutions' annual reports and periodic institutional program reviews and those who serve as contacts at educational institutions listed on the program participation agreement, including, but not limited to, financial aid directors and college presidents to better describe these individuals already covered by the system; and

(5) New category (12) is added to include individuals who are title IV, HEA aid recipients and who attended, or who are attending, a gainful employment program at a postsecondary institution.

The Department is modifying the section entitled “CATEGORIES OF RECORDS IN THE SYSTEM” as follows:

(i) The Department is adding a “Note” section to explain that the Federal Tax Information (FTI) that the Department will directly obtain from the Internal Revenue Service (IRS) under the Fostering Undergraduate Talent by Unlocking Resources for Education (FUTURE) Act will be maintained in a separate system of records, which is covered by the system of records notice entitled “FUTURE Act System (FAS)” (18-11-23);

(ii) Category (1) is modified to delete and replace “state administered driver's license number,” with “driver's license state of issuance and number”;

(iii) Category (3) is modified to include an aid applicant or recipient incarcerated flag for analytics and reporting;

(iv) Category (4) is modified to include demographic information on the spouse of a married aid applicant or aid recipient; to delete and replace “state administered driver's license number,” with “driver's license state of issuance and number”; and to add parent college attendance status, which will replace parent highest level of schooling completed on the FAFSA due to the amendment of subsection 483(a)(2)(B)(ii)(XIII) of the HEA made by subsection 702(m)(1) of the FAFSA Simplification Act, to clarify the demographic information collected;

(v) Category (5) is modified to include aid applicant's spouse in the application of IDR;

(vi) Category (6) is modified to include FSEOG amounts and dates of disbursement, and money earned under the FWS Program for analytics and reporting of title IV, HEA programs;

(vii) Category (10) is modified to clarify that it is the aid recipient's loan information that contains information on financial institutions participating in the loan participation and sale programs established by the Department under the Ensuring Continued Access to Student Loan Act of 2008 (ECASLA) (Pub. L. 110-227);

(viii) Category (11) is modified to include approved Prison Education Programs (PEPS) for analytics and reporting of the PEPS program;

(ix) Category (12) is modified to expand the types of case records related to discharge of title IV, HEA obligations on grounds of qualifying service, bankruptcy discharge, death, Public Service Loan Forgiveness (PSLF) (including, but not limited to, employment records), Borrower Defense (including, but not limited to, case decisions, principal and interest discharged, amount refunded, and borrower defense notifications), or other statutory or regulatory grounds for relief;

(x) Category (14) is modified to include examples of the types of individuals on whom the Department maintains FSA IDs and passwords, and account recovery information;

(xi) Category (20) has been deleted because it is duplicative of category (11);

(x) Newly renumbered category (21) is added to include unstructured data, documentation, and images (such as PDF files), including, but not limited to, free-text fields, servicer telephone conversations, deferment forms, repayment plan application forms, consolidation application forms, loan discharge applications, alternative documentation of income (ADOI) artifacts, and other agreements that may impact a legal obligation to repay funds disbursed under title IV, HEA programs;

(xi) New category (22) is added to include records regarding individuals at postsecondary institutions that participate in aid programs authorized under title IV of the HEA including, but not limited to, the name and taxpayer identification number or SSN of individuals with a substantial ownership interest in the institution, business address, phone numbers, and personal identification numbers assigned by the Department and employees, officials, and authorized representatives/agents of IHEs, and members of boards of directors or trustees of IHEs; employees of foreign entities (i.e., Non-U.S. Medical Evaluating Agency, Authorizing Agency) that evaluate the quality of education; and employees, officials, and authorized representatives/agents of third-party servicers, guaranty agencies, federal loan servicers, Federal Family Education Loan (FFEL) lenders, FFEL lenders' servicers, and State agencies that participate in aid programs authorized under title IV of the HEA including, but not limited to, their name and taxpayer identification number or SSN. The system also maintains the following information for all individuals identified covered by this paragraph including business addresses, phone numbers, and personal identification numbers assigned by the Department, for analytics and reporting;

(xii) New category (23) is added to include information about aid recipients who began a program of study that prepares them for gainful employment in a recognized occupation pursuant to sections 101 and 102 of the HEA (“gainful employment program”) such as aid applicant or aid recipient identifiers including the aid applicant's or aid recipient's SSN, date of birth, and name, enrollment information including the Office of Postsecondary Education Identification number (OPEID) of the postsecondary institution, the Classification of Instructional Programs (CIP) code of the gainful employment program in which the aid recipient enrolled, and, if the aid recipient completed the program, the completion date and the CIP code of the completed program, the level of study, the amount of the aid recipient's private education loan debt, the amount of institutionally provided financing owed by the aid recipient, and whether the aid recipient matriculated to a higher credentialed program at the same institution or another institution for analytics and reporting; and

(xiii) New category (24) is added to include information provided on third-party preparers, including, but not limited to first and last name, SSN or employer identification number, affiliation, address or employer's address, signature and signature date, for analytics and reporting;

(xiv) New category (25) is added to include consent/affirmative approval on aid applicants and recipients to the IRS for the IRS to disclose FTI under subsection 494(a) of the HEA (20 U.S.C. 1098h(a)) and section 6103(l)(13)(A) and (C) of the IRC to the Department as part of a matching program to determine their determine their eligibility under title IV of the HEA and to permit the Department to redisclose FTI of individuals pursuant to section 6103(l)(13)(D)(iv) of the IRC and the revocation of such consent/affirmative approval for IDR; and

(xv) The Department is adding a new last paragraph to clarify that information in this system may also bec obtained on individuals who are not aid applicants or recipients under title, IV by Federal or State agencies as part of an interagency agreement or memorandum of understanding to allow analysis of title IV, HEA programs.

To be more consistent with other Department System of Records Notices, and to more concisely describe the record source categories the Department is modifying the section entitled “RECORD SOURCE CATEGORIES” to read as follows: “Information is also obtained from other Department systems, or their successor systems, such as the Federal Loan Servicers' IT systems (covered by the system of records titled `Common Services for Borrowers (CSB)' (18-11-16)); Debt Management and Collections System (covered by the system of records titled `Common Services for Borrowers (CSB)' (18-11-16)); Common Origination and Disbursement System (covered by the system of records titled `Common Origination and Disbursement (COD) System' (18-11-02)); Financial Management System (covered by the system of records titled `Financial Management System (FMS)' (18-11-17)); Student Aid internet Gateway, Participant Management System (covered by the system of records titled `Student Aid internet Gateway (SAIG), Participation Management System' (18-11-10)); Postsecondary Education Participants System (covered by the system of records titled `Postsecondary Education Participants System' (18-11-09)); National Student Loan Data System (covered by the system of records titled `National Student Loan Data System (NSLDS)' (18-11-06)); Person Authentication Service (covered by the system of records titled `Person Authentication Service (PAS)' (18-11-12)); Health Education Assistance Loan Program (covered by the system of records titled `Health Education Assistance Loan (HEAL) Program' (18-11-20)); and all IT systems covered by the system of records entitled `Aid Awareness and Application Processing' (18-11-21).

Information in this system also may be obtained from other persons or entities from whom or from which information is obtained following a disclosure under the routine uses set forth below.”

Richard Cordray,
Chief Operating Officer, Federal Student Aid.

For the reasons discussed in the preamble, the U.S. Department of Education (Department) publishes a notice of a modified system of records to read as follows:

SYSTEM NAME AND NUMBER:

“Enterprise Data Management and Analytics Platform Services (EDMAPS)” (18-11-22).

SECURITY CLASSIFICATION:

Unclassified.

SYSTEM LOCATION:

Federal Student Aid (FSA), U.S. Department of Education, Union Center Plaza (UCP), 830 First Street NE, Washington, DC 20202-5454.

Amazon Web Services (AWS), 1200 12th Avenue, Suite 1200, Seattle, WA 98114. (This is the Hosting Center for the EDMAPS system's application, where all electronic EDMAPS system information is processed and stored.)

Accenture, 22451 Shaw Road, Sterling, VA 20166-4319. (The EDMAPS system's Sterling Cloud-based Operations is located here.)

Accenture DC, 810 First Street NE, Washington, DC 20202-4227. (This is the EDMAPS system's Operations Center.)

SYSTEM MANAGER(S):

System Owner, EDMAPS System, Federal Student Aid, U.S. Department of Education, Union Center Plaza (UCP), Room 102-E5, 830 First Street NE, Washington, DC 20202.

AUTHORITY FOR MAINTENANCE OF THE SYSTEM:

The EDMAPS system is authorized under title I, Part D, and title IV of the Higher Education Act of 1965, as amended (HEA) (20 U.S.C. 1001, 1002, 1018-1018b and 20 U.S.C. 1070 et seq.), the Presidential Memorandum entitled “A Student Aid Bill of Rights to Help Ensure Affordable Loan Repayment” (March 10, 2015), the Higher Education Relief Opportunities for Students Act of 2003 (HEROES Act) (20 U.S.C. 1098bb) (including any waivers or modifications that the Secretary of Education deems necessary to make to any statutory or regulatory provision applicable to the student financial assistance programs under title IV of the HEA to achieve specific purposes listed in the section in connection with a war, other military operation, or a national emergency), the FAFSA Simplification Act (title VII, Division, division FF of the Consolidated Appropriations Act, 2021 (Pub. L. 116-260)) (including, but not limited to the following: subsections 701(b) and 702(m), which amends section 483 of the HEA, and section 703, which amends section 401 of the HEA), and the FAFSA Simplification Act Technical Corrections Act (division R of the Consolidated Appropriations Act, 2022 (Pub. L. 117-103)).

The EDMAPS system is largely comprised of records that originate from, and are also maintained in, other Department systems of records. Therefore, the Department is also listing the more specific authorities for those systems of records here:

(1) National Student Loan Data System (NSLDS) (18-11-06). The authority under which the NSLDS system of records is maintained includes sections 101, 102, 132(i), 485, and 485B of the HEA (20 U.S.C. 1001, 1002, 1015a(i), 1092, and 1092b), and sections 431(2) and (3) of the General Education Provisions Act (20 U.S.C. 1231a(2)-(3)), and the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency). The collection of Social Security numbers (SSNs) of individuals who are covered by this system is authorized by 31 U.S.C. 7701 and Executive Order 9397 (November 22, 1943), as amended by Executive Order 13478 (November 18, 2008);

(2) Common Origination and Disbursement (COD) System (18-11-02). The system of records for the COD System is authorized under title IV of the HEA and the HEROES Act (including any waivers or modifications that the Secretary of Education deems necessary to make to any statutory or regulatory provision applicable to the student financial assistance programs under title IV of the HEA to achieve specific purposes listed in the section in connection with a war, other military operation, or a national emergency);

(3) Common Services for Borrowers (CSB) (18-11-16). The CSB system of records is authorized by titles IV-A, IV- B, IV-D, and IV-E of the HEA, and the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency);

(4) Health Education Assistance Loan (HEAL) Program (18-11-20). The authority for maintenance of the HEAL Program system of records includes sections 701 and 702 of the Public Health Service Act, as amended (PHS Act) (42 U.S.C. 292 and 292a), which authorize the establishment of a Federal program of student loan insurance; section 715 of the PHS Act (42 U.S.C. 292n), which directs the Secretary of Education to require institutions to provide information for each aid recipient who has a loan; section 709(c) of the PHS Act (42 U.S.C. 292h(c)), which authorizes disclosure and publication of HEAL defaulters; the Debt Collection Improvement Act (31 U.S.C. 3701 and 3711-3720E); and the Consolidated Appropriations Act, 2014, Division H, title V, section 525 of Public Law 113-76, which transferred the authority to administer the HEAL program from the Secretary of Health and Human Services to the Secretary of Education;

(5) Financial Management System (FMS) (18-11-17). The FMS system of records is authorized by title IV of the HEA;

(6) Postsecondary Education Participants Systems (PEPS) (18-11-09). The PEPS system of records is authorized by sections 481, 487, 498 of the HEA (20 U.S.C. 1088, 1094, 1099c) and section 31001(i)(1) of the Debt Collection Improvement Act of 1996, Public Law 104-134 (31 U.S.C. 7701);

(7) Person Authentication Service (PAS) (18-11-12). The PAS system of records and the collection of personal information for the creation and management of an FSA ID (which includes a user ID and a password) is authorized by title IV of the HEA;

(8) Student Aid internet Gateway (SAIG), Participation Management (PM) System (18-11-10). The SAIG,

PM system of records is authorized by title IV of the HEA. The collection of SSNs of users of the SAIG, PM System is authorized by 31 U.S.C. 7701 and Executive Order 9397, as amended by Executive Order 13478 (November 18, 2008); and

(9) Aid Awareness and Application Processing (AAAP) (18-11-21). The AAAP system of records is authorized under title IV of the HEA (20 U.S.C. 1070 et seq.) and 20 U.S.C. 1018(f) and 1087e(h), and the Higher Education Relief Opportunities for Students Act of 2003 (20 U.S.C. 1098bb) (including any waivers or modifications that the Secretary of Education deems necessary to make to any statutory or regulatory provision applicable to the student financial assistance programs under title IV of the HEA to achieve specific purposes listed in the section in connection with a war, other military operation, or a national emergency). The collection of SSNs of individuals, and parents of dependent students, who apply for or receive Federal student financial assistance under programs authorized by title IV of the HEA is also authorized by 31 U.S.C. 7701 and Executive Order 9397, as amended by Executive Order 13478 (November 18, 2008) or both.

PURPOSE(S) OF THE SYSTEM:

The information contained in this system of records is maintained for the following purposes (Note: Different parts of the HEA use the terms “discharge,” “cancellation,” or “forgiveness” to describe when an aid recipient's loan amount is reduced, in whole or in part, by the Department. To reduce complexity, this system of records notice uses the term “discharge” to include all three terms (“discharge,” “cancellation,” and “forgiveness”), including, but not limited to, discharges of student loans made pursuant to specific benefit programs. At times, this system of records notice may refer by name to a specific benefit program, such as the “Public Service Loan Forgiveness” program; such specific references are not intended to exclude any such program benefits from more general references to loan discharges):

(1) To provide master data management, to serve as a production database, and to provide common naming conventions and standards;

(2) To provide a data warehouse for analytics, reporting, and modeling;

(3) To provide the Data Lake for the storage of large data sets, both structured and unstructured (PDFs and audio files are examples of unstructured data);

(4) To provide analytics and reporting, including querying, modeling, forecasting, and visualizing, for the purpose of administering the title IV, HEA programs effectively and efficiently;

(5) To improve transparency by publicly releasing information and reports, as required by the Foundations for Evidence-Based Policymaking Act of 2018 and title IV of the HEA;

(6) To support research, analysis, and development, and the implementation and evaluation of education policies in relation to title IV, HEA programs;

(7) To support Federal budget analysts in the Department, the Office of Management and Budget (OMB), and the Congressional Budget Office (CBO) in the development of budget needs and forecasts;

(8) To help aid applicants and recipients achieve better outcomes through outreach to aid applicants and recipients at risk of default and of being defrauded;

(9) To determine aid recipients' eligibility for discharges of loans under title IV of the HEA;

(10) To maintain and process information and documentation, including, but not limited to, loan discharge income eligibility information, associated application information for the purposes of eligibility determination and verification information obtained from applicants, or applicable applicant's parent(s) or spouse, and income verification documentation of an aid recipient or applicable aid recipient's parent(s) or spouse, pertaining to discharge of eligible loans under title IV, HEA and promissory notes and other agreements that evidence the existence of a legal obligation to repay funds disbursed under title IV, HEA programs;

(11) To provide a more flexible data architecture that will allow FSA to respond more efficiently and accurately to complex data requests and changes in title IV, HEA policies and operations;

(12) To provide additional insights into title IV, HEA programs, improve oversight of FSA vendors, and develop a global view of FSA operations;

(13) To facilitate the collection, processing, and transmission of information to aid applicants or aid recipients, postsecondary and financial institutions, lenders, State agencies, and other authorized operational parties;

(14) To identify, prevent, reduce, and recoup improper payments;

(15) To communicate with aid applicants and recipients information regarding financial aid including, but not limited to, the Free Application for Federal Student Aid (FAFSA®) processing timelines, debt counseling references, and PSLF information;

(16) To enforce the conditions or terms of a title IV, HEA obligation;

(17) To investigate possible fraud or abuse or verify compliance with program regulations or contract requirements;

(18) To litigate a title IV, HEA obligation, or to prepare for, provide support services for, or audit the results of litigation on a title IV, HEA obligation;

(19) To verify the identity of FSA aid recipients for the purpose of loan discharge eligibility;

(20) To assist audit and program review planning and reviews;

(21) To conduct testing, analysis, or take other administrative actions needed to prepare for or execute programs under title IV of the HEA; and

(22) To maintain the consent/affirmative approval from income-driven repayment (IDR) applicants or recipients to permit the Department to disclose information to the Internal Revenue Service (IRS) for the IRS to disclose Federal Tax Information (FTI) of such individuals under subsection 494(a) of the HEA (20 U.S.C. 1098h(a)) and section 6103(l)(13)(A) of the Internal Revenue Code of 1986 (IRC) to the Department as part of a matching program to determine monthly repayment obligation amounts for IDR plans under title IV of the HEA with respect to loans made under part D of title IV of the HEA (the Direct Loan program) and to permit the Department to redisclose the FTI of such individuals pursuant to section 6103(l)(13)(D)(iv) of the IRC, or the revocation of the consent/affirmative approval.

CATEGORIES OF INDIVIDUALS COVERED BY THE SYSTEM:

The EDMAPS system maintains records on the following categories of individuals:

(1) Individual recipients of, and applicants for, aid (and their third-party preparers) under one of the programs authorized under title IV of the HEA, including, but not limited to, the: (a) Direct Loan Program; (b) Federal Family Education Loan (FFEL) Program; (c) Federal Insured Student Loan (FISL) Program; and (d) Federal Perkins Loan Program, including National Defense Student Loans, National Direct Student Loans, and Perkins Expanded Lending and Income Contingent Loans (Perkins Loans);

(2) Individuals who serve as endorsers on Direct PLUS loans;

(3) Recipients of Federal Pell Grants, Academic Competitiveness Grants (ACG), National Science and Mathematics Access to Retain Talent (SMART) Grants, Federal Supplemental Educational Opportunity Grants (FSEOGs), Federal Work-Study (FWS) Program earnings, Teacher Education Assistance for College and Higher Education (TEACH) Grants, and Iraq and Afghanistan Service Grants;

(4) Individuals who owe an overpayment on a Federal Pell Grant, an ACG, a National SMART Grant, a FSEOG, an Iraq and Afghanistan Service Grant, a TEACH Grant, or a Federal Perkins Loan;

(5) Individuals who have applied for borrower defense discharges (Note: The system contains case tracking records on these individuals);

(6) Individuals who received aid under the HEAL Program for analysis of their use of the title IV, HEA programs;

(7) Individuals who are title IV, HEA aid applicants or recipients, and parents or spouses of aid applicants or recipients, who submit feedback/complaints to the Department regarding title IV, HEA programs, contractors, or practices or processes of the Department;

(8) Individuals who are not aid applicants or recipients under title IV, HEA programs, but who have submitted feedback or a complaint or whose information has been provided to the Department as part of an interagency agreement or memorandum of understanding to allow analysis of title IV, HEA programs;

(9) Aid applicants and recipients under title IV, HEA programs, the parents of aid applicants and recipients under title IV, HEA programs, spouses of married aid applicants and recipients under title IV, HEA programs, PLUS loan endorsers, third-party preparers, and all other individuals who apply for an FSA user ID and password;

(10) Individuals who are, or once were, the parent(s) of a dependent applicant or aid recipient, or the spouse of a married applicant or aid recipient, under title IV, HEA programs;

(11) Individuals who are, or once were, officials, such as college presidents, college chief financial officers, and college financial aid directors, at postsecondary institutions and who are mentioned in records of their institutions' annual reports and periodic institutional program reviews and those who serve as contacts at educational institutions listed on the program participation agreement, including, but not limited to, financial aid directors and college presidents; and

(12) Individuals who are title IV, HEA aid recipients and who attended, or who are attending, a gainful employment program at a postsecondary institution.

CATEGORIES OF RECORDS IN THE SYSTEM:

Note: The FTI that the Department will obtain directly from the IRS under the Fostering Undergraduate Talent by Unlocking Resources for Education (FUTURE) Act will be maintained in a separate system of records, which is covered by the system of records notice entitled “FUTURE Act System (FAS)” (18-11-23). This system will continue to maintain both historical and applicant-provided income information (either through a manual FAFSA entry or submission of alternative documentation of income (ADOI) through the IDR process). Any reference to income throughout this system of records notice refers to income information that the Department did not obtain directly from the IRS but obtained from the applicant or from another source.

The EDMAPS system includes, but is not limited to, the following categories of records:

(1) Aid applicant and recipient identifier information, including Social Security number (SSN), FSA ID, name (both current and previous), date of birth, physical mailing address, phone number, email address, and driver's license number and state of issuance;

(2) Information on the aid recipient's loan(s) covering the period from the origination of the loan through final payment, cancellation, consolidation, discharge, or other final disposition, including details such as loan amount, disbursements, balances, loan status, repayment plan payments and related information, collections, lender and guaranty agency claims, deferments, forbearances, refunds, and cancellations, master promissory notes, information collected to determine loan discharge eligibility along with eligibility and income verification consents;

(3) Aid applicant and recipient demographic information from aid applications including, but not limited to, dependency status, citizenship, veteran status, marital status, sex/gender, race/ethnicity, incarceration flag, income and asset information (including income and asset information on the aid applicant's or aid recipient's parent(s), if a dependent aid applicant or recipient, and the aid applicant's or recipient's spouse, if married), and expected family contribution or Student Aid Index;

(4) Demographic information on the spouse of a married aid applicant or aid recipient and the parent(s) of a dependent aid applicant or aid recipient from aid applications, including, but not limited to, U.S. passport number, name (current and previous), date of birth, SSN, FSA ID, driver's license number and state of issuance, marital status, telephone number, email address, income and asset information, and parent highest level of schooling completed and college attendance status;

(5) Information related to an aid applicant or aid recipient's application for an income-driven repayment plan, including information such as current income, family size, repayment plan selection, and, if married, information about the aid applicant's or recipient's spouse;

(6) Federal Pell Grant, ACG, National SMART Grant, TEACH Grant, FSEOG, and Iraq and Afghanistan Service Grant amounts and dates of disbursement, and money earned under the FWS Program;

(7) Federal Pell Grant, ACG, National SMART Grant, Iraq and Afghanistan Service Grant, FSEOG, and Federal Perkins Loan Program overpayment amounts;

(8) Information maintained by a guaranty agency, including, demographic, contact, and identifier information, an aid recipient's FFEL loan(s), and the lender(s), holder(s), and servicer(s) of the aid recipient's FFEL loan(s);

(9) Information concerning the date of any default on loans;

(10) Aid recipient loan information that contains information on financial institutions participating in the loan participation and sale programs established by the Department under the Ensuring Continued Access to Student Loan Act of 2008 (ECASLA) (Pub. L. 110-227), including the collection of ECASLA loan-level funding amounts, dates of ECASLA participation for financial institutions, dates and amounts of loans sold to the Department under ECASLA, and the amount of loans funded by the Department's programs but repurchased by the lender;

(11) Aid recipient enrollment information, such as enrollment status, information on the aid recipient's educational institution, level of study, the Classification of Instructional Programs (CIP) code, published length for the program in which the aid recipient enrolled at a postsecondary institution or programs of studies at the postsecondary institution and approved Prison Education Programs (PEPs) (the FAFSA Simplification Act allows for expanding access to Federal Pell Grants to include Federal and State penal facilities approved PEPs);

(12) Records related to discharge of title IV, HEA obligations on grounds of qualifying service, bankruptcy discharge, death, Public Service Loan Forgiveness (PSLF) (including, but not limited to, employment records), Borrower Defense (including, but not limited to, case decisions, principal and interest discharged, amount refunded, and borrower defense notifications), or other statutory or regulatory grounds for relief;

(13) Case records on complaints and feedback regarding title IV, HEA programs, Department contractors, and the practices and processes of the Department and fraud referrals;

(14) Records on FSA user IDs and passwords, and password recovery questions and answers for individuals covered under the system including aid applicants and recipients, the parents of aid applicants and recipients under title IV, HEA programs, spouses of married aid applicant and aid recipients, PLUS loan endorsers, and third-party preparers;

(15) Records of aid applicant or aid recipient contacts (phone calls and letters);

(16) HEAL Program records, when loaded into the system for analysis of HEAL aid recipients' use of the title IV, HEA programs;

(17) Reference data about lenders and guaranty agencies, such as parent-subsidiary lender relationships, in addition to aggregated financials from lenders and guaranty agencies;

(18) Centralized identifying and contact information received from the FAFSA, origination and disbursement records, loan servicers, and customers (via the studentaid.gov interface), augmented by algorithms to identify the most accurate and/or up-to-date identifying and contact records;

(19) Credit check details, decision, adverse reasons/credit bureau info and credit appeal information on PLUS loan applicants, recipients, and endorsers;

(20) Loan discharge income eligibility information, associated discharge eligibility and income verification consent information from discharge applicants or applicable applicant's parent(s) or spouse, and income verification documentation of an aid recipient or applicable aid recipient's parent(s) or spouse, pertaining to discharge of eligible loans under title IV, HEA programs;

(21) Unstructured data, documentation, and images (such as PDF files), including, but not limited to, free-text fields, servicer telephone conversations, deferment forms, repayment plan application forms, consolidation application forms, loan discharge application forms, ADOI artifacts used to support IDR plans, and other agreements that may impact a legal obligation to repay funds disbursed under title IV, HEA programs;

(22) Records regarding individuals at postsecondary institutions that participate in aid programs authorized under title IV of the HEA including, but not limited to, the name and taxpayer identification number or SSN of individuals with a substantial ownership interest in the institution, business address, phone numbers, and personal identification numbers assigned by the Department and employees, officials, and authorized representatives/agents of IHEs, and members of boards of directors or trustees of IHEs; employees of foreign entities (i.e., Non-U.S. Medical Evaluating Agency, Authorizing Agency) that evaluate the quality of education; and employees, officials, and authorized representatives/agents of third-party servicers, guaranty agencies, federal loan servicers, FFEL lenders, FFEL lenders' servicers, and State agencies that participate in aid programs authorized under title IV of the HEA including, but not limited to, their name and taxpayer identification number or SSN. The system also maintains the following information for all individuals covered by this paragraph including business address, phone numbers, and personal identification numbers assigned by the Department for analytics and reporting;

(23) For aid recipients who began a program of study that prepares them for gainful employment in a recognized occupation pursuant to sections 101 and 102 of the HEA (“gainful employment program”), aid recipient identifiers including the recipient's SSN, date of birth, and name, aid recipient enrollment information including the Office of Postsecondary Education identification number (OPEID number) of the postsecondary institution, the CIP code for the gainful employment program in which the aid recipient enrolled, and, if the aid recipient completed the program, the completion date and the CIP code of the completed program, the level of study, the amount of the aid recipient's private education loan debt, the amount of institutionally provided financing owed by the aid recipient, and whether the aid recipient matriculated to a higher credentialed program at the same institution or another institution;

(24) Information provided on third-party preparers, including, but not limited to, first name, last name, SSN or employer identification number, affiliation, address or employer's address, signature, and signature date;

(25) Consent/affirmative approval both to permit the Department to disclose information on IDR applicants or recipients to the IRS for the IRS to disclose FTI under subsection 494(a) of the HEA (20 U.S.C. 1098h(a)) and section 6103(l)(13)(A) and (C) of the IRC to the Department as part of a matching program to determine their monthly repayment obligation amounts for IDR plans under title IV of the HEA with respect to loans made under part D of title IV of the HEA (the Direct Loan program) and to permit the Department to redisclose FTI of such individuals pursuant to clauses section 6103(l)(13)(D)(iv) of the IRC and for the revocation of the consent/affirmative approval; and

(26) Information on individuals who are not aid applicants or recipients under title, IV by Federal or State agencies as part of an interagency agreement or memorandum of understanding to allow analysis of title IV, HEA programs.

RECORD SOURCE CATEGORIES:

Information is obtained from other Department systems, or their successor systems, such as the Federal Loan Servicers' IT systems (covered by the system of records titled “Common Services for Borrowers (CSB)” (18-11-16)); the Debt Management and Collections System (covered by the system of records titled “Common Services for Borrowers (CSB)” (18-11-16)); COD (covered by the system of records titled “Common Origination and Disbursement (COD) System” (18-11-02)); FMS (covered by the system of records titled “Financial Management System (FMS)” (18-11-17)); SAIG, PM System (covered by the system of records titled “Student Aid internet Gateway (SAIG), Participation Management System” (18-11-10)); Postsecondary Education Participants System (covered by the system of records titled “Postsecondary Education Participants System” (18-11-09)); NSLDS (covered by the system of records titled “National Student Loan Data System (NSLDS)” (18-11-06)); PAS (covered by the system of records titled “Person Authentication Service (PAS)” (18-11-12)); HEAL (covered by the system of records titled “Health Education Assistance Loan (HEAL) Program” (18-11-20)); and all IT systems covered by the system of records titled “Aid Awareness and Application Processing” (18-11-21).

The EDMAPS system receives origination and disbursement records on Federal Pell Grants, ACGs, National SMART Grants, TEACH Grants, Iraq and Afghanistan Service Grants, and Direct Loans; master promissory note records; records of PLUS loan credit checks and credit appeals; annual aggregated Federal Campus-Based Program (FWS, FSEOG, and Perkins Loan) records from post-secondary institutions; consolidation loan application records; repayment plan application records; and financial literacy (entrance and exit) counseling records from COD (covered by the systems of records titled “Common Origination and Disbursement (COD) System” (18-11-02)) or any successor system.

Information in this system also may be obtained from other persons or entities from whom or from which information is obtained following a disclosure under the routine uses set forth below.

Information in this system may also be obtained on individuals who are not aid applicants or recipients under title, IV by Federal or State agencies as part of an interagency agreement or memorandum of understanding to allow analysis of title IV, HEA programs.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act), under a computer matching agreement.

(1) Program Disclosures. The Department may disclose records from this system of records for the following program purposes:

(a) To promote transparency, and the effective and efficient administration, of title IV, HEA programs, the Department may disclose records to guaranty agencies, educational institutions, financial institutions, and Federal, State, Tribal, and local government agencies;

(b) To detect, prevent, mitigate, and recoup improper payments in title IV, HEA programs, the Department may disclose records to guaranty agencies, educational institutions, financial institutions, and Federal, State, Tribal, and local government agencies;

(c) To support auditors and program reviewers in planning and carrying out their assessments of title IV, HEA program compliance, the Department may disclose records to guaranty agencies, educational institutions, financial institutions and servicers, and Federal, State, Tribal, and local government agencies; and

(d) To assist with the determination of eligibility for loan discharges, the Department may disclose records to holders of loans made under title IV of the HEA.

(2) Congressional Member Disclosure. The Department may disclose the records of an individual to a member of Congress or the member's staff when necessary to respond to an inquiry from the member made at the written request of that individual and on behalf of that individual. The member's right to the information is no greater than the right of the individual who requested it.

(3) Enforcement Disclosure. In the event that information in this system of records indicates, either on its face or in connection with other information, a violation or potential violation of any applicable statute, regulation, or order of a competent authority, the Department may disclose the relevant records to the appropriate government agency, whether Federal, State, Tribal, or local, charged with investigating or prosecuting that violation or charged with enforcing or implementing the statute, regulation, or order issued pursuant thereto.

(4) Litigation and Alternative Dispute Resolution (ADR) Disclosure.

(a) Introduction. In the event that one of the following parties listed in subparagraphs (i) through (v) is involved in judicial or administrative litigation or ADR, or has an interest in judicial or administrative litigation or ADR, the Department may disclose certain records from this system of records to the parties described in paragraphs (b), (c), and (d) of this routine use under the conditions specified in those paragraphs:

(i) The Department or any of its components;

(ii) Any Department employee in their official capacity;

(iii) Any Department employee in their individual capacity if the U.S. Department of Justice (DOJ) has been requested to or has agreed to provide or arrange for representation of the employee;

(iv) Any Department employee in their individual capacity when the Department has agreed to represent the employee;

(v) The United States when the Department determines that the litigation is likely to affect the Department or any of its components.

(b) Disclosure to DOJ. If the Department determines that disclosure of certain records to DOJ is relevant and necessary to judicial or administrative litigation or ADR, the Department may disclose those records as a routine use to DOJ.

(c) Adjudicative Disclosure. If the Department determines that it is relevant and necessary to judicial or administrative litigation or ADR to disclose certain records from this system of records to an adjudicative body before which the Department is authorized to appear or to a person or an entity designated by the Department or otherwise empowered to resolve or mediate disputes, the Department may disclose those records as a routine use to the adjudicative body, person, or entity.

(d) Disclosure to Parties, Counsel, Representatives, and Witnesses. If the Department determines that disclosure of certain records to a party, counsel, representative, or witness is relevant and necessary to the judicial or administrative litigation or ADR, the Department may disclose those records as a routine use to the party, counsel, representative, or witness.

(5) Employment, Benefit, and Contracting Disclosure.

(a) For Decisions by the Department. The Department may disclose a record from this system of records to a Federal, State, Tribal, or local government agency, or to another public agency or professional organization, maintaining civil, criminal, or other relevant enforcement or other pertinent records if necessary to obtain information relevant to a Department decision concerning the hiring or retention of an employee or other personnel action; the issuance of a security clearance; the letting of a contract; or the issuance of a license, grant, or other benefit.

(b) For Decisions by Other Public Agencies and Professional Organizations. The Department may disclose a record to a Federal, State, Tribal, local, or other government or public agency or professional organization, in connection with the hiring or retention of an employee or other personnel action, the issuance of a security clearance, the reporting of an investigation of an employee, the letting of a contract, or the issuance of a license, grant, or other benefit, to the extent that the record is relevant and necessary to the receiving entity's decision on the matter.

(6) Employee Grievance, Complaint, or Conduct Disclosure. If a record is relevant and necessary to a grievance, complaint, or disciplinary action involving a present or former employee of the Department, the Department may disclose the record during investigation, fact-finding, or adjudication to any party to the grievance, complaint, or action; to the party's counsel or representative; to a witness; or to a designated fact finder, mediator, or other person designated to resolve issues or decide the matter.

(7) Labor Organization Disclosure. The Department may disclose a record to an arbitrator to resolve disputes under a negotiated grievance procedure or to officials of a labor organization recognized under 5 U.S.C. chapter 71 when relevant and necessary to their duties of exclusive representation.

(8) Freedom of Information Act (FOIA) and Privacy Act Advice Disclosure. The Department may disclose records to DOJ or the OMB if the Department concludes that disclosure is desirable or necessary in determining whether particular records are required to be disclosed under the FOIA or the Privacy Act.

(9) Disclosure to DOJ. The Department may disclose records to DOJ to the extent necessary for obtaining DOJ advice on any matter relevant to an audit, inspection, or other inquiry related to the programs covered by this system.

(10) Contract Disclosure. If the Department contracts with an entity to perform any function that requires disclosure of records in this system to employees of the contractor, the Department may disclose the records to those employees. As part of such a contract, the Department shall require the contractor to agree to establish and maintain safeguards to protect the security and confidentiality of the disclosed records.

(11) Research Disclosure. The Department may disclose records to a researcher if the Department determines that the individual or organization to which the disclosure would be made is qualified to carry out specific research related to the functions or purposes of this system of records. The Department may disclose records from this system of records to that Federal researcher solely for the purpose of carrying out that research related to the functions or purposes of this system of records. The researcher shall be required to agree to establish and maintain safeguards to protect the security and confidentiality of the disclosed records.

(12) Disclosure in the Course of Responding to a Breach of Data. The Department may disclose records from this system of records to appropriate agencies, entities, and persons when (a) the Department suspects or has confirmed that there has been a breach of the system of records; (b) the Department has determined that, as a result of the suspected or confirmed breach, there is a risk of harm to individuals, the Department (including its information systems, programs, and operations), the Federal government, or national security; and (c) the disclosure made to such agencies, entities, and persons is reasonably necessary to assist in connection with the Department's efforts to respond to the suspected or confirmed breach or to prevent, minimize, or remedy such harm.

(13) Disclosure in Assisting Another Agency in Responding to a Breach of Data. The Department may disclose records from this system to another Federal agency or Federal entity, when the Department determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(14) Disclosure to the OMB and CBO for Federal Credit Reform Act (FCRA) Support. The Department may disclose records to OMB and CBO as necessary to fulfill FCRA requirements in accordance with 2 U.S.C. 661b.

(15) Disclosure to National Archives and Records Administration (NARA). The Department may disclose records from this system of records to NARA for the purpose of records management inspections conducted under authority of 44 U.S.C. 2904 and 2906.

POLICIES AND PRACTICES FOR STORAGE OF RECORDS:

The Department electronically stores information at the AWS site referenced in the foregoing section titled “SYSTEM LOCATION.” For example, the Department electronically stores, for the entire Federal Student Aid life cycle from application through loan payoff, aid applicant and aid recipient demographic and title IV, HEA aid information such as, but not limited to, FFEL program, FISL program, and Perkins Loan records at the AWS site. The Department also stores electronic master promissory notes, electronic Special Direct Consolidation Loan opportunity applications and promissory notes, electronic requests to repay a Direct Loan under an income-driven repayment plan, and Federal Direct Consolidation Loan applications and promissory notes at the AWS site. Finally, data obtained from the paper promissory notes or the paper loan discharge eligibility form are stored on hard disks at the AWS site. (These are referred to as metadata and are used by the system to link promissory notes or loan discharge eligibility forms to an aid recipient.)

POLICIES AND PRACTICES FOR RETRIEVAL OF RECORDS:

With some exceptions, the Department does not generally use the EDMAPS system for the retrieval of individual records. However, system administrators and a handful of privileged users are able to retrieve records from the EDMAPS system by award ID, customer ID, borrower ID, an individual's SSN, last name, first name, and date of birth. Further, the Department uses the EDMAPS system to retrieve individual records to process eligibility information and other information about of aid recipients and to send it to Federal Loan Servicers for the discharge of eligible student loans under the title IV, HEA programs. Internal reports also provide a secure vehicle for approved Department employees and Department contractor staff to access samples of individual records, for example as part of performing program reviews.

POLICIES AND PRACTICES FOR RETENTION AND DISPOSAL OF RECORDS:

The Department has submitted a retention and disposition schedule that covers the primary records contained in this system to NARA for review. The Department will treat these records as “permanent records,” as defined in 36 CFR 1220.18, until such time as a final disposition is approved.

The EDMAPS system may also contain certain records that the Department considers, on a case-by-case basis and with the approval of the Agency Records Officer, to be covered by General Records Schedule 5.2, “Transitory and Intermediary Records.”

ADMINISTRATIVE, TECHNICAL, AND PHYSICAL SAFEGUARDS:

All users of the system will have a unique user ID with password. In addition to the user ID and password, users must authenticate their Personal Identity Verification (PIV) card to access the system, from within either the Department's Network, the Department's Global Protect Virtual Private Network (VPN), or the Department's vendor's Cisco AnyConnect VPN. Users are required to change their password at least every 60 days in accordance with the Department's information technology standards.

All physical access to the information housed in the EDMAPS system locations is controlled and monitored by security personnel who check each individual entering the building for their employee or visitor badge.

The computer system employed by the Department offers a high degree of resistance to tampering and circumvention with firewalls, encryption, and password protection. This security system limits data access to Department and Department contractor staff on a “need-to-know” basis and controls individual users' ability to access and alter records within the system. All interactions by users of the system are recorded. Users of the EDMAPS system do not see personally identifiable information (PII), even when looking at individual records. EDMAPS tokenizes PII, meaning that PII is swapped out for non-sensitive random values. This does not prevent users of EDMAPS from joining tables containing the same PII data element, because tokenization ensures that the same non-sensitive value is swapped out in every table that has that particular data element, for example SSN or date of birth.

In accordance with the Federal Information Security Management Act of 2002 (FISMA), as amended by the Federal Information Security Modernization Act of 2014, every Department system must receive a signed Authorization to Operate (ATO) from a designated Department official. The ATO process includes a rigorous assessment of security and privacy controls, a plan of actions and milestones to remediate any identified deficiencies, and a continuous monitoring program.

FISMA controls implemented are comprised of a combination of management, operational, and technical controls, and include the following control families: access control, awareness and training, audit and accountability, security assessment and authorization, configuration management, contingency planning, identification and authentication, incident response, maintenance, media protection, physical and environmental protection, planning, personnel security, privacy, risk assessment, system and services acquisition, system and communications protection, system and information integrity, and program management.

RECORD ACCESS PROCEDURES:

If you wish to gain access to a record regarding you in this system of records, contact the system manager at the address listed above. You must provide the system manager with the necessary particulars such as your full, legal name, date of birth, address, and any other identifying information requested by the Department while processing the request in order to distinguish between individuals with the same name. Requesters must also reasonably specify the record contents sought. Your request must meet the requirements of the regulations at 34 CFR 5b.5, including proof of identity.

CONTESTING RECORD PROCEDURES:

If you wish to contest the content of your personal record within the system of records, contact the system manager at the address listed above and provide your full, legal name, date of birth, and SSN. Identify the specific items to be changed and provide a written justification for the change. Requests to amend a record must meet the requirements in 34 CFR 5b.7.

NOTIFICATION PROCEDURES:

If you wish to determine whether a record exists regarding you in the system of records, contact the system manager at the address listed above. You must provide necessary particulars such as your full, legal name, date of birth, address, and any other identifying information requested by the Department while processing the request to distinguish between individuals with the same name. Requests must meet the requirements in 34 CFR 5b.5, including proof of identity.

EXEMPTIONS PROMULGATED FOR THE SYSTEM:

None.

HISTORY:

The system of records entitled “Enterprise Data Management and Analytics Platform Services (EDMAPS)” (18-11-22) was first published in full in the Federal Register on September 13, 2022 (87 FR 56038-56044).

[FR Doc. 2023-15997 Filed 7-27-23; 8:45 am]

BILLING CODE 4000-01-P